MISSISSIPPI RIVER COMMISSION

Sunshine Act Meetings

Agency Holding the Meetings: Mississippi River Commission.

Time and Date: 1:30 p.m., November 17, 2010.

Place: Mississippi River Commission Headquarters Building, 1400 Walnut Street, Vicksburg, MS.

Status: Open to the public for observation, but not for participation.

Matters to be Considered: The Commission will consider the Louisiana Coastal Area, Louisiana, Ecosystem Restoration, Six Projects Authorized by Section 7006(e)(3) of Water Resources Development Act of 2007.

CONTACT PERSON FOR MORE INFORMATION: Mr. Stephen Gambrell, telephone 601-634-5766.

George T. Shepard,
Colonel, Corps of Engineers, Secretary, Mississippi River Commission.

[FR Doc. 2010-25982 Filed 10-12-10; 11:15 am]

BILLING CODE 3720-58-P